DEPARTMENT OF THE TREASURY

Submission for OMB Review; Comment Request

February 18, 2005.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 28, 2005 to be assured of consideration.

Alcohol and Tobacco Tax and Trade Bureau (TTB)

OMB Number: 1513-0017.

Form Number: TTB F 5130.6.

Type of Review: Extension.

Title: Drawback of Beer Exported.

Description: When tax paid beer is removed from a brewery and ultimately exported, the brewer exporting is eligible for a drawback (refund) of Federal taxes paid. By completing this form and submitting documentation of exportation, the brewer may receive a refund of Federal taxes paid.

Respondents: Business of other for-profit.

Estimated Number of Respondents: 100.

Estimated Burden Hours Per Respondent: 1 hour.

Frequency of Response: On occasion.

Estimated Total Reporting Burden: 5,000 hours.

OMB Number: 1513-0034.

Form Number: TTB F 5200.7.

Type of Review: Extension.

Title: Tobacco taxes, Excise taxes, Federal Taxes.

Description: TTB F 5200.7 is used by persons who intend to withdraw tobacco products from the market for which the taxes has already been paid or determined. The form notifies TTB when withdrawal or destruction is to take place, and TTB may elect to supervise withdrawal or destruction.

Respondents: Business of other for-profit.

Estimated Number of Respondents: 119.

Estimated Burden Hours Per Respondent: 45 Minutes.

Frequency of Response: On occasion.

Estimated Total Reporting Burden: 1,071 hours.

Clearance Officer: William H. Foster, (202) 927-8210, Alcohol and Tobacco Tax and Trade Bureau, Room 200 East, 1310 G. Street, NW., Washington, DC 20005.

OMB Reviewer: Joseph F. Lackey, Jr., (202) 395-7316, Office of Management and Budget, Room 10235, New Executive Office Building, Washington, DC 20503.

Christopher Davis,
Treasury PRA Assistant.

[FR Doc. 05-3653 Filed 2-24-05; 8:45 am]

BILLING CODE 4810-31-P